DEPARTMENT OF HEALTH AND HUMAN SERVICES

National Committee on Vital and Health Statistics; Meeting

Pursuant to the Federal Advisory Committee Act, the Department of Health and Human Services (HHS) announces the following advisory committee meeting.

Name: National Committee on Vital and Health Statistics (NCVHS).

Time and Date: November 28, 2000—9 a.m.-5 p.m. EDT.

November 29, 2000—10:15 a.m.-3:30 p.m. EDT.

Place: Hubert H. Humphrey Building, 200 Independence Avenue SW., Room 705A, Washington, DC 20201.

Status: Open.

Purpose: At this meeting the Committee will hear presentations and hold discussions on several health data policy topics. On the first day an update from HHS has been scheduled on the implementation of the administrative simplification provisions of the Health Insurance Portability and Accountability Act of 1996 (HIPAA). The Committee will be briefed by the Director of the National Center for Health Statistics on several health data activities. In addition, there may be a discussion of a possible draft letter to the HHS Secretary regarding digital signatures. The Committee will also discuss action items reported in the summary from its 50th Anniversary Symposium held earlier in the year. There will also be a report on two recent meetings of the World Health Organization's (WHO) collaborating Center for the Classification of Diseases. A panel discussion has been scheduled on HIPAA implementation issues. The first day will end with breakout sessions for subcommittees and workgroups. Day two will also begin with breakout sessions and then the full committee will be briefed on selected HHS data policy initiatives and will hear an analysis of State privacy laws. The afternoon session will be devoted to hearing reports from the subcommittees and workgroups and the setting of future agendas.

Notice: In the interest of security, HHS has instituted stringent procedures for entrance to the Hubert H. Humphrey building by non-government employees. Persons without a government identification card may need to have the guard call for an escort to the meeting.

Contact Person for Core Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/, where further information including an agenda will be posted when available.

Dated: October 18, 2000.
James Scanlon,
Director, Division of Data Policy, Office of the Assistant Secretary for Planning and Evaluation.

[FR Doc. 00-27462 Filed 10-25-00; 8:45 am]

BILLING CODE 4151-05-M